DEPARTMENT OF ENERGY

Federal Energy Regulatory Commission

[Docket No. RP99-301-015]

ANR Pipeline Company; Notice of Negotiated Rate Filing

April 5, 2001.

Take notice that on April 2, 2001, ANR Pipeline Company (ANR), tendered for filing and approval the following agreements between ANR and Dynegy Marketing and Trade (Dynegy): (1) Two Rate Schedule FTS-1 Service Agreements; (2) two Rate Schedule IWS Service Agreements; (3) a Southeast Area Gathering Service Agreement; and (4) a March 29, 2001 Negotiated Rate Agreement (March 29 Agreement). The March 29 Agreement sets forth a negotiated rate arrangement between ANR and Dynegy to be effective April 1, 2001 through October 31, 2001 (Negotiated Rate). ANR requests that the Commission accept and approve the Negotiated Rate to be effective April 1, 2001.

ANR states that copies of the filing has been mailed to each of ANR's customers and affected state regulatory commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-8861 Filed 4-10-01; 8:45 am]

BILLING CODE 6717-10-M